DEPARTMENT OF HEALTH AND HUMAN SERVICES

Administration for Children and Families

President's Committee for People With Intellectual Disabilities Meeting, Via Conference Call, Cancellation

AGENCY: President's Committee for People with Intellectual Disabilities (PCPID).

ACTION: Notice of PCPID Conference Call Cancellation.

DATES: The conference call was scheduled for October 28, 2011, 1 p.m. to 2:30 p.m.

FOR FURTHER INFORMATION CONTACT: Laverdia Taylor Roach, Senior Advisor, President's Committee for People with Intellectual Disabilities, The Aerospace Center, Second Floor West, 370 L'Enfant Promenade SW., Washington, DC 20447. Telephone: (202) 619-0634. Fax: (202) 205-9519. Email: LRoach@acf.hhs.gov.

Further meetings will be announced through a separate Federal Register notice.

Dated: October 26, 2011.
Jamie Kendall,
Deputy Commissioner, Administration on Developmental Disabilities.

[FR Doc. 2011-28292 Filed 11-1-11; 8:45 am]

BILLING CODE 4184-01-P